DEPARTMENT OF COMMERCE

National Oceanic and Atmospheric Administration

[I.D. 080101B]

Marine Mammals; File No. 774-1634-00

AGENCY: National Marine Fisheries Service (NMFS), National Oceanic and Atmospheric Administration (NOAA), Commerce.

ACTION: Issuance of permit.

SUMMARY: Notice is hereby given that Dr. Stephen B. Reilly, Director, IDCPA Research Program, Southwest Fisheries Science Center, National Marine Fisheries Service, P.O. Box 271, La Jolla, California 92038 (Principal Investigator: Dr. Karin Forney), has been issued a permit to take spinner dolphins (Stenella longirostris) and Pantropical spotted dolphin (S. attenuata graffmani), and other small cetaceans for purposes of scientific research.

ADDRESSES: The permit and related documents are available for review upon written request or by appointment in the following office(s):

Permits and Documentation Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

FOR FURTHER INFORMATION CONTACT: Ruth Johnson, Tammy Adams (301) 713-2289, and Nicole Le Boeuf (301) 713-2322.

SUPPLEMENTARY INFORMATION: On June 6, 2001, notice was published in the Federal Register (66 FR 30428) that a request for a scientific research permit to take species listed above had been submitted by the above-named organization. The requested permit has been issued under the authority of the Marine Mammal Protection Act of 1972, as amended (16 U.S.C. 1361 et seq.), and the Regulations Governing the Taking and Importing of Marine Mammals (50 CFR part 216).

Dated: August 3, 2001.
Ann D. Terbush,
Chief, Permits and Documentation Division, Office of Protected Resources, National Marine Fisheries Service.

[FR Doc. 01-20028 Filed 8-8-01; 8:45 am]

BILLING CODE 3510-22-S